LIBRARY OF CONGRESS

Copyright Office

37 CFR Part 201 and 212

[Docket No. RM 2002-3]

Fees

AGENCY: Copyright Office, Library of Congress.

ACTION: Final rule.

SUMMARY: The Copyright Office of the Library of Congress is publishing a final rule establishing adjusted fees for certain of its services. The basic fee for registration of an original work of authorship is not affected; however, related registration and recordation fees will be adjusted. These adjustments include a number of increased fees, the elimination of one fee, and the lowering of another. Adjusted fees will be effective July 1, 2002. This final rule assumes that no legislative action will take place before July 1, 2002.

EFFECTIVE DATE: July 1, 2002.

FOR FURTHER INFORMATION CONTACT: Marilyn J. Kretsinger, Assistant General Counsel or Patricia Sinn, Senior Attorney, P.O. Box 70400, Southwest Station, Washington, DC 20024. Telephone: (202) 707-8380; Fax: (202) 707-8366.

SUPPLEMENTARY INFORMATION: This final rule adjusts Copyright Office fees in accordance with the applicable provisions of title 17, United States Code, and the Technical Amendments Act, Pub. L. No. 105-80, 111 Stat. 1529 (1997).

The Office submitted its proposed fee schedule to Congress on February 28, 2002. Congress has 120 days in which it could enact a law if it does not approve the schedule. If no such legislation is enacted the fees may be instituted. Should such legislation be enacted, the Copyright Office will publish a document in the Federal Register to notify its customers that this final rule and certain of the fees established herein will not take effect. Copyright customers should refer to the official Copyright Office website (www.copyright.gov) for the most current fee amounts. Official notices of any fee changes will also be published in the Federal Register.

Background

Statutory Provisions

In 1997 Congress authorized the Register of Copyrights to implement fees for services that were formerly set by Congress under a new procedure which first required the Register to conduct a study of the costs incurred for the registration of claims, the recordation of documents, and the provision of services. If the Register determines that fees should be adjusted after the review of all statutory criteria, the Register prepares a proposed fee schedule and submits the schedule and the accompanying economic analysis to Congress. The fees proposed in that schedule may be instituted in 120 days unless Congress enacts a law within that 120 day period stating that it does not approve the schedule. Technical Amendments Act, Pub L. 105-80, 111 Stat. 1529 (1997).

In 1998, the Copyright Office initiated a process to adjust fees by publication of a notice. 63 FR 43426 (August 13, 1998). At the end of the process, the Register forwarded a report with a proposed fee schedule to Congress on February 1, 1999, and increased most of its fees including the basic registration fees on July 1, 1999. See 64 FR 29518 (June 1, 1999). Implementation of the new system established by Congress means that the Office's fee schedule for certain services specified in title 17 as well as other special services is set out in regulations rather than in title 17. See 37 CFR 201.3.

Fee Adjustment Level

When it adjusted fees in 1998-1999, the Office decided that it should next consider adjusting fees three years after that adjustment. Following a cost analysis initiated in fiscal year 2000, and completion of the other necessary steps, the Register forwarded a proposed fee schedule and the accompanying economic analysis to Congress on February 28, 2002. In the absence of legislation directing otherwise, the new fee schedule will take effect on July 1, 2002.

The proposed new fee schedule was submitted after the Office had both (1) completed the economic analysis required, evaluating the costs of providing the mandatory services identified in title 17, and (2) made a determination that the other statutory criteria, including the requirement that fees “should also be fair and equitable and give due considerations to the objectives of the copyright system,” 17 U.S.C. 708(b)(4), had been met.

At the conclusion of this analysis, the Register concluded that a number of fees needed to be increased to recover the full cost of providing the service; certain other fees needed to be increased slightly by the rate of inflation to maintain cost recovery; and the rest of the fees based on current and projected cost recovery should not be adjusted at this time. Services for which fees were increased to achieve or maintain cost recovery for providing the service include making a renewal registration, registering an original vessel hull design, recording a document, searching and preparing a report from Copyright Office records, and recording a designated online service provider agent.

For a number of reasons, the Register determined that an adjustment of the basic registration filing fee, which the Office had increased by 50% in 1999, was not warrented at this time. In her submission to Congress, the Register noted the level of cost recovery registration fees enjoyed in FY 2000 and FY 2001, the large increases imposed on the public in recent years, the negative effects of the decline in registrations that follow every fee increase, the costs associated with increasing the fee, and the changes in processing anticipated from the Copyright Office's business process re-engineering effort.

For public policy reasons, the Office eliminated the fee for inspection of Copyright Office records and also reduced the minimum cost for the first 15 pages of photocopying. Other statutory fees remain at the same level set in 1999.

In July of 1998, the Office adjusted non-statutory fees in a separate proceeding. For convenience, the non-statutory fees are slated for adjustment on the same schedule as statutory fees.

The “Analysis and Proposed Copyright Fee Schedule To Go Into Effect July 1, 2002” which was submitted to Congress is posted online at http://www.copyright.gov/reports/fees2002.html, in PDF format.

Other Considerations

As discussed above, this final rule establishes copyright fees for certain services adjusted in the manner required by Congress. Therefore, prior notice and an opportunity for public comment are not required pursuant to 5 U.S.C. 553 (or any other law). The Office did post the proposed schedule on its website and is publishing the new fees in the Federal Register more than 30 days before they go into effect.

Regulatory Flexibility Act

Although the Copyright Office, as a department of the Library of Congress and part of the legislative branch, is not an “agency subject to the Regulatory Flexibility Act,” 5 U.S.C. 601-612, the Register of Copyrights has considered the effect of these fee adjustments on individual authors and small entities. The Register does not propose increasing the basic registration fee and has issued more regulations permitting group registrations for individual authors. The Register has determined that the final regulations will not have a significant economic impact on a substantial number of individual authors or small entities that would require provision of special relief for small entities in the regulations, and that the final regulations are, to the extent consistent with the stated objectives of applicable statutes, designed to minimize any significant economic impact on small entities.

A comparison of existing and new fee amounts is included as an Appendix to the preamble.

List of Subjects

37 CFR Part 201

Copyright, General provisions.

37 CFR Part 212

Design, Fees, Registration, Vessel hulls.

Final Rule

In consideration of the foregoing, parts 201 and 212 of 37 CFR chapter II are amended as follows:

PART 201-GENERAL PROVISIONS

1. The authority citation for part 201 continues to read as follows:

Authority: 17 U.S.C. 702.

2. Section 201.3(c) and (d) are revised to read as follows:

§ 201.3 Fees for registration, recordation, and related services, special services, and services performed by the Licensing Division.

* * * * *

(c) Registration, recordation and related service fees. The Copyright Office has established the following fees for these services:

Registration, recordation and related services | Fees
(1) Registration of a basic claim in an original work of authorship: Forms TX, SE, PA, VA (including Short Form) and Form SR | $30
(2) Registration of a claim in a group of contributions to a periodical (GR/CP) | 30
(3) Registration of a renewal claim (Form RE):
Claim without Addendum | 60
Addendum | 30
(4) Registration of a claim in a mask work (Form MW) | 75
(5) Registration of a claim in a group of serials (Form SE/Group) [per issue, with $45 minimum] | 15
(6) Registration of a claim in a group of daily newspapers and qualified newsletters (Form G/D N) | 55
(7) Registration of a claim in a restored copyright (Form GATT) | 30
(8) Registration of a claim in a group of restored works (Form GATT/Group) [per issue, with $45 minimum] | 15
(9) Registration of a correction or amplification to a claim (Form CA) | 100
(10) Providing an additional certificate of registration | 30
(11) Certification of other Copyright Office records (per hour) | 80
(12) Search—report prepared from official records (per hour) | 75
(13) Location of Copyright Office records (per hour) | 80
Location of in-process materials (per hour) | 100
(14) Recordation of document (single title) | 80
Additional titles (per group of 10 titles) | 20
(15) Recordation of a Notice of Intention to Enforce (NIE) a restored copyright containing no more than one title | 30
Additional NIE titles (each) | 1
(16) Recordation of Notice of Intention to Make and Distribute Phonorecords | 12
(17) Issuance of a receipt for a § 407 deposit | 10

(d) Special service fees. The Copyright Office has established the following fees for special services:

Special services | Fees
(1) Service charge for deposit account overdraft | $100
(2) Service charge for dishonored deposit account replenishment check | 35
(3) Appeals:
(i) First appeal | 200
Additional claim in related group | 20
(ii) Second appeal | 500
Additional claim in related group | 20
(4) Secure test processing charge, per hour | 60
(5) Copying of Copyright Office Records by staff, per page (black & white) | .50
(6) Special handling fee for a claim | 580
Each additional claim using the same deposit | 50
(7) Special handling fee for recordation of a document | 330
(8) Full-term retention of a published deposit | 425
(9) Expedited Reference and Bibliography search and report (surcharge, per hour) | 250
(10) Expedited Certification & Documents services (surcharge, per hour) | 200

* * * * *

§ 201.38 [Amended]

3. Section 201.38 is amended as follows:

a. In paragraph (e), remove “$20.00” and add “$30” in its place.

b. In paragraph (f), remove “$20.00” and add “$30” in its place.

PART 212—PROTECTION OF VESSEL HULL DESIGNS

4. The authority citation for Part 212 continues to read as follows:

Authority: 17 U.S.C. chapter 13.

§ 212.2 [Amended]

5. Section 212.2 is amended as follows:

a. In paragraphs (a) and (b), remove “$75” each place it appears and add “$140” in its place.

b. In paragraph (d)(1), remove “$500” and add “$580” in its place.

c. In paragraph (e), remove “$65” and add “$100” in its place.

d. In paragraph (f), remove “$50” and add “$80” in its place.

e. In paragraph (g), remove “$25” and add “$30” in its place.

f. In paragraph (h), remove “$65” and add “$75” in its place.

§ 212.5 [Amended]

6. In § 212.5(c)(4), remove “$50” and add “$80” in its place.

Dated: May 16, 2002.
Marybeth Peters,
Register of Copyright.
Approved by:
James H. Billington,
The Librarian of Congress.

Note: The following appendix will not appear in the Code of Federal Regulations.

Appendix.—Comparison of Existing and New Fee Amounts
| Old Fee | Fee
Registration, Recordation and Related Service
(1) Registration of a basic claim in an original work of authorship (Forms TX, SE, PA, SR, VA including Short Form and Form SR) | $30 | $30
(2) Registration of a claim in a group of contributions to a periodicals (GR/CP) | 30 | 30
(3) Registration of a renewal claim (Form RE) claim without addendum | 45 | 60
RE addendum | 15 | 30
(4) Registration of a claim in a mask work (Form VA) | 75 | 75
(5) Registration of a claim in a group of serials (Form SE/Group) | 10/issue— 30 minimum | 15/issue— 45 minimum
(6) Registration of a claim in a group of daily newspapers, and qualified newsletters (Form G/DN) | 55 | 55
(7) Registration of a restored copyright (Form GATT) | 30 | 30
(8) Registration of a claim in a group of restored works (Form GATT/Group) | 10/claim— 30 minimum | 15/claim— 45 minimum
(9) Registration of a claim in a vessel hull (§ 212.2) | 75 | 140
(10) Registration of a correction or amplification to a claim (Form CA) | 65 | 100
(11) Providing an additional certificate of registration | 25 | 30
(12) Certification of other Copyright Office records (per hour) | 65 | 80
(13) Search—report prepared from official records (per hour) | 65 | 75
Location and retrieval of Copyright Office records (per hour) | 65 | 80
Location and retrieval of in-process materials (per hour) | 65 | 100
(14) Recordation of document (single title) | 50 | 80
Additional titles (per group of 10 titles) | 20 | 20
(15) Recordation of a notice of intention to enforce (NIE) a restored copyright containing no more than one title | 30 | 30
Additional NIE titles (each) | 1 | 1
(16) Recordation of Notice of Intention to Make and Distribute Phonorecords | 12 | 12
(17) Issuance of a Receipt for a § 407 deposit | 4 | 10
(18) Recording on-line service provider designation (§ 201.38) | 20 | 30
Special Services
(1) Service charge for deposit account overdraft | $70 | $100
(2) Service charge for dishonored deposit account replenishment check | 35 | 35
(3) Appeals:
(i) First appeal | 200 | 200
Additional claim in related group | 20 | 20
(ii) Second appeal | 500 | 500
Additional claim in related group | 20 | 20
(4) Secure test processing charge, per hour | 60 | 60
(5) Copying of Copyright Office Records by staff, per page (black & white) | $15 min | .50
(6) Inspection Charge (per hour) | 65 | N/A
(7) Special handling fee for a claim | 500 | 580
Each additional claim using the same deposit | 50 | 50
(8) Special handling fee for recordation of a document | 330 | 330
(9) Full-term retention of a published deposit | 365 | 425
(10) Expedited Bibliography and Reference search & report (surcharge, per hour) | 125/first hr. 95/add'l hrs. | 250
(11) Expedited Certification & Documents (surcharge, per hour) | variable ($75-$95/hour) | 200

[FR Doc. 02-13387 Filed 5-30-02; 8:45 am]

BILLING CODE 1410-30-P